SMALL BUSINESS ADMINISTRATION

[Disaster Declaration #10222 and #10223]

Florida Disaster Number FL-00011

AGENCY: U.S. Small Business Administration.

ACTION: Amendment 6.

SUMMARY: This is an amendment of the Presidential declaration of a major disaster for the State of Florida ( FEMA-1609-DR), dated October 24, 2005.

Incident: Hurricane Wilma.

Incident Period: October 23, 2005 through November 18, 2005.

Effective Date: January 20, 2006.

Physical Loan Application Deadline Date: January 31, 2006.

EIDL Loan Application Deadline Date: July 24, 2006.

ADDRESSES: Submit completed loan applications to: U.S. Small Business Administration, National Processing and Disbursement Center, 14925 Kingsport Road, Fort Worth , TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for the State of Florida, dated October 24, 2005, is hereby amended to extend the deadline for filing applications for physical damages as a result of this disaster to January 31, 2006.

All other information in the original declaration remains unchanged.

(Catalog of Federal Domestic Assistance Numbers 59002 and 59008)

Cheri L. Cannon,
Acting Associate Administrator for Disaster Assistance.

[FR Doc. E6-1082 Filed 1-27-06; 8:45 am]

BILLING CODE 8025-01-P